Title 3—

The President

Proclamation 8633 of March 1, 2011

Read Across America Day, 2011

By the President of the United States of America

A Proclamation

Hidden in the pages of books are extraordinary worlds and characters that can spark creativity and imagination, and unlock the potential that lies within each of our children. Reading is the foundation upon which all other learning is built, and on Read Across America Day, we reaffirm our commitment to supporting America’s next generation of great readers.

Cultivation of basic literacy skills can begin early and in the home. It is family who first instills the love of learning in our future leaders by engaging children in good reading habits and making reading a fun and interactive activity. Regardless of language or literacy level, every adult can inspire young people to appreciate the written word early in life. Parents and mentors can help build fundamental skills by reading aloud to children regularly, discussing the story, and encouraging children to ask questions on words or content they do not understand. By passing a passion for literature on to our sons and daughters, we prepare them to be lifelong, successful readers, and we provide them with an essential skill necessary for academic achievement.

Teachers also play an integral role in our students’ lives, and educators can help prepare our children to meet the challenges of tomorrow by making reading a key component of classroom activities. Our Nation’s young people rely on the critical thinking and analytical skills gained from reading to build other areas of knowledge, including the subjects of science, technology, engineering, and mathematics. The next generation’s ability to excel in these disciplines is crucial to America’s strength and prosperity in the 21st century.

Read Across America Day marks the birthday of Theodor Seuss Geisel, better known to the world as Dr. Seuss. Through amusing wordplay and engaging tales, his stories have helped generations of young Americans enjoy reading and sharpen basic reading skills, vital tools for their future success. With parents, teachers, and communities working together, we can ensure reading is a national priority and American pastime. By recommitting to improving literacy and raising the expectations we have for our students, for our schools, and for ourselves, we will win the future for our children and give every child a chance to succeed.

NOW, THEREFORE, I, BARACK OBAMA, President of the United States of America, by virtue of the authority vested in me by the Constitution and the laws of the United States, do hereby proclaim March 2, 2011, as Read Across America Day. I call upon children, families, educators, librarians, public officials, and all the people of the United States to observe this day with appropriate programs, ceremonies, and activities.

IN WITNESS WHEREOF, I have hereunto set my hand this first day of March, in the year of our Lord two thousand eleven, and of the Independence of the United States of America the two hundred and thirty-fifth.

[FR Doc. 2011-5149

Filed 3-3-11; 11:15 am]

Billing code 3195-W1-P